DEPARTMENT OF DEFENSE

Department of the Army

ARMS Initiative Implementation

AGENCY: Armament Retooling and Manufacturing Support (ARMS) Executive Advisory Committee (EAC).

ACTION: Notice of meeting.

SUMMARY: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. This meeting will be hosted by the U.S. Army, Operations Support Command. The purpose of the meeting is to update the EAC and public on the status of ongoing actions, new items of interest, and suggested future direction/actions. Topics for this meeting will include—Strategic Planning for the ARMS Program; the ARMS/USDA Loan Guarantee Program; Facility Contracting and Leasing; ARMS Database and Metrics; and a FAR 45 Update. This meeting is open to the public.

DATE OF MEETING: October 11-12, 2000.

PLACE OF MEETING: Blackhawk Hotel, 200 East Third Street, Davenport, Iowa 52801.

TIME OF MEETING: 1 a.m.-5 p.m. on October 11 and 8 a.m.-2 p.m. on October 12.

FOR FURTHER INFORMATION CONTACT: Mr. Elwood H. Weber, ARMS Task Force, HQ Army Materiel Command, 5001 Eisenhower Avenue, Alexandria Virginia 22333; Phone (703) 617-9788.

SUPPLEMENTARY INFORMATION: A block of rooms has been reserved at the Blackhawk Hotel for the nights of 10-11 October 2000. The Blackhawk Hotel is located at 200 East Third Street, Davenport, Iowa, 52801, Local Phone (319) 328-6000. Please make your reservations by calling 800-553-1173. Be sure to mention that you are attending the ARMS PPTF and/or use group code 3248. Reserve your room prior to September 19th to get the Government Rate of $55.00 a night. Also notify this office of your attendance by notifying either Susan Alten, susan.alten@hqda.army.mil, 703-617-4246 (DSN 767-4246) or Elwood Weber, eweber@hqamc.army.mil, 703-617-9788 (DSN 767-9788). To insure adequate arrangements (transportation, conference facilities, etc.) for all attendees, we request your attendance notification with this office by September 19, 2000. Corporate casual is meeting attire.

Gregory D. Showalter,
Army Federal Register Liaison Officer.

[FR Doc. 00-21139 Filed 8-16-00; 8:45 am]

BILLING CODE 3710-08-P